DEPARTMENT OF COMMERCE

Technology Administration

Technology Administration Performance Review Board Membership

The Technology Administration Performance Review Board (TA PRB) reviews performance appraisals, agreements, and recommended actions pertaining to employees in the Senator Executive Service and reviews performance-related pay increases for ST-3104 employees. The Board makes recommendations to the appropriate appointing authority concerning such matters so as to ensure the fair and equitable treatment of these individuals.

This notice lists the membership of the TA PRB and supersedes the list published in Federal Register Vol. 69, No. 161, pages 51638-51639, on August 20, 2004.

Daniel W. Caprio, Jr. (NC), Deputy Assistant Secretary for Technology Policy, Office of Technology Policy, Technology Administration, Washington, DC 20230, Appointment Expires 12/31/06 (General).

Belinda L. Collins (C), Deputy Director for Technology Services, National Institute of Standards and Technology, Gaithersburg, MD 20899, Appointment Expires: 12/31/05 (Limited).

Alan Cookson (C) (Alternate), Deputy Director, Electronics and Electrical Engineering Laboratory, National Institute of Standards and Technology, Gaithersburg, MD 20899, Appointment Expires: 12/31/07 (Limited).

Paul Doremus (C), Director of Strategic Planning, Program Planning and Integration, National Oceanic and Atmospheric Administration, Silver Spring, MD 20910, Appointment Expires: 12/31/07 (Limited).

Cita Furlani (C), Chief Information Officer, National Institute of Standards & Technology; Gaithersburg, MD 20899, Appointment Expires: 12/31/07 (Limited).

Patrick Gallagher (C) (Alternate), Director, NIST Center for Neutron Research, Materials Science and Engineering Laboratory, National Institute of Standards and Technology, Gaithersburg, MD 20899, Appointment Expires: 12/31/07 (Limited).

Howard Harary (C), Deputy Director, Manufacturing Engineering Laboratory, National Institute of Standards and Technology, Gaithersburg, MD 20899, Appointment Expires: 12/31/07 (Limited).

Daniel Hurley (C), Director of Communication and Information, Infrastructure Assurance Program, National Telecommunications and Information Administration, Washington, DC 20230, Appointment Expires: 12/31/05 (General).

Deidre Jones (C), Director of Systems Engineering Center, Office of Science and Technology, National Weather Service, National Oceanic and Atmospheric Administration, Silver Spring, MD 20910, Appointment Expires: 12/31/05 (Limited).

Michelle O'Neill (C), Deputy Under Secretary of Commerce for Technology, Technology Administration, Department of Commerce, Washington, DC 20230, Appointment Expires: 12/31/06 (General).

Patricia Sefcik (C), Senior Director to the Deputy Assistant Secretary for Manufacturing, Manufacturing and Services, International Trade Administration, Department of Commerce, Washington, DC 20230, Appointment Expires: 12/31/07 (General).

Dated: July 29, 2005.
Michelle O'Neill,
Acting Under Secretary of Commerce for Technology, Technology Administration, Department of Commerce.

[FR Doc. 05-16278 Filed 8-16-05; 8:45 am]

BILLING CODE 3510-18-M